EXPORT-IMPORT BANK OF THE UNITED STATES

Sunshine Act Meeting

TIME AND DATE: Wednesday, July 31, 2019, at 9:30 a.m. (EST).

PLACE: 811 Vermont Avenue NW, Room 1125, Washington, DC 20571.

STATUS: Portions of this meeting will be open to the public. Remaining items will be closed to the public.

MATTERS TO BE CONSIDERED: Open Meeting of the Board of Directors of the Export-Import Bank of the United States (EXIM Bank):

1. Small Business Update

2. Economic Impact Procedures

PORTIONS OPEN TO THE PUBLIC: The meeting will be open to public participation for Items No. 1 & 2 only.

CONTACT PERSON FOR MORE INFORMATION: Members of the public who wish to attend the meeting should call Kita Hall, Office of the General Counsel, 811 Vermont Avenue NW, Washington, DC 20571 (202) 565-3584 by 4:00 p.m. (EST), Monday, July 29, 2019.

Joyce Brotemarkle Stone,
Assistant Corporate Secretary.

[FR Doc. 2019-14995 Filed 7-10-19; 4:15 pm]

BILLING CODE 6690-01-P